ENVIRONMENTAL PROTECTION AGENCY

[ER-FRL-9033-4]

Environmental Impact Statements; Notice of Availability

Responsible Agency: Office of Federal Activities, General Information (202) 564-7146 or http://www.epa.gov/nepa.

Weekly receipt of Environmental Impact Statements (EISs)

Filed 05/15/2017 Through 05/19/2017

Pursuant to 40 CFR 1506.9.

Notice

Section 309(a) of the Clean Air Act requires that EPA make public its comments on EISs issued by other Federal agencies. EPA's comment letters on EISs are available at: http://www.epa.gov/compliance/nepa/eisdata.html.

EIS No. 20170084, Final, Caltrans, CA, Interstate 10 Corridor Project, Review Period Ends: 06/26/2017, Contact: Aaron Burton 909-383-2841

EIS No. 20170085, Final, NRC, MO, Construction Permit for the Northwest Medical Isotopes Radioisotope Production Facility, Review Period Ends: 06/26/2017, Contact: David Drucker 301-415-6223

EIS No. 20170086, Final, USACE, TX, Sabine Pass to Galveston Bay, Review Period Ends: 06/26/2017, Contact: Janelle Stokes 409-766-3039

EIS No. 20170087, Final, HUD, CA, ADOPTION—Rim Fire Recovery, Review Period Ends: 06/26/2017, Contact: Kathleen McNulty 415-489-6644. The U.S. Housing of Urban Development/State of California Housing and Community Development is adopting the U.S. Forest Service Final EIS # 20140249, filed 08/28/2014 with EPA. The HUD/HCD was not a cooperating agency for this project. Therefore, recirculation of the document is necessary under Section 1506.3(b) of Council on Environmental Quality Regulations

EIS No. 20170088, Final, USACE, HI, Ala Wai Canal Project, Flood Risk Management, Review Period Ends: 06/26/2017, Contact: Derek Chow 808-835-4026

EIS No. 20170089, Final, BLM, ID, Craters of the Moon National Monument and Preserve Proposed Management Plan Amendment, Review Period Ends: 06/26/2017, Contact: Lisa Cresswell 208-732-7270

EIS No. 20170090, Final, HUD/HCD, CA, ADOPTION—Rim Fire Reforestation, Review Period Ends: 06/26/2017, Contact: Kathleen McNulty 415-489-6644. The U.S. Housing of Urban Development/State of California Housing and Community Development is adopting the U.S. Forest Service Final EIS # 20160088, filed 04/21/2016 with EPA. The HUD/HCD was not a cooperating agency for this project. Therefore, recirculation of the document is necessary under Section 1506.3(b) of Council on Environmental Quality Regulations

Amended Notices

EIS No. 20170076, Final Supplement, USACE, MO, Mississippi River Between the Ohio and Missouri Rivers (Regulating Works), Review Period Ends: 06/27/2017, Contact: Kip Runyon 314-331-8396. Revision to FR Notice Published 05/12/2017; Extending the Comment Period from 06/12/2017 to 06/27/2017

Dated: May 23, 2017.
Dawn Roberts,
Management Analyst, NEPA Compliance Division, Office of Federal Activities.

[FR Doc. 2017-10922 Filed 5-25-17; 8:45 am]

BILLING CODE 6560-50-P